DEPARTMENT OF ENERGY

Federal Energy Regulatory Commission

18 CFR Part 284

[Docket No. RM03-10-000]

Amendments to Blanket Sales Certificates; Extension of Comment Period

July 25, 2003.

AGENCY: Federal Energy Regulatory Commission, DOE.

ACTION: Notice of proposed rulemaking; extension of comment period.

SUMMARY: On June 26, 2003, the Federal Energy Regulatory Commission issued a Notice of Proposed Rulemaking (NOPR) (68 FR 40207, July 7, 2003) seeking comments on amending the blanket certificates for unbundled gas sales services held by interstate natural gas pipelines and the blanket marketing certificates held by persons making sales for resale of gas at negotiated rates in interstate commerce. The date for filing comments is being extended at the request of various interested parties.

DATES: Comments on issues posed by the NOPR shall be filed on or before August 18, 2003. Reply comments shall be filed on or before September 18, 2003.

ADDRESSES: Federal Energy Regulatory Commission, 888 First Street, NE., Washington, DC 20426.

FOR FURTHER INFORMATION CONTACT: Magalie R. Salas, Secretary 888 First Street, NE., Washington, DC 20426, (202) 502-8400.

On July 23 and 24, 2003 Duke Energy Corporation (Duke) and Public Service Electric and Gas Company (PSE&G) filed respective motions for a 60-day extension of time for the filing of initial comments in response to the Commission's Notice of Proposed Rulemaking (NOPR) regarding blanket sales certificates, issued June 26, 2003, in the above-docketed proceeding. In their motions, Duke and PSE&G state that permitting a 60-day extension to comment will allow interested parties to adequately review, analyze and formulate appropriate and constructive comments for the Commission to consider in its final rule on amendments to blanket sales certificates.

Upon consideration, notice is hereby given that the time for filing initial comments in response to the Commission's June 25, 2003 NOPR is extended from August 6, 2003, to and including August 18, 2003. Reply comments shall be filed on or before September 18, 2003.

Magalie R. Salas,
Secretary.

[FR Doc. 03-19879 Filed 8-4-03; 8:45 am]

BILLING CODE 6717-01-P